DEPARTMENT OF TRANSPORTATION

Federal Aviation Administration

14 CFR Part 71

[Docket No. FAA-2013-0891; Airspace Docket No. 12-ASO-37]

RIN 2120-AA66

Establishment of Area Navigation (RNAV) Routes; Atlanta, GA

AGENCY: Federal Aviation Administration (FAA), DOT.

ACTION: Final rule.

SUMMARY: This action establishes nine low-altitude RNAV routes (T-routes) in the Atlanta, GA, area. The new routes enhance the efficiency of the National Airspace System (NAS) by providing routing through, around and over the busy Atlanta terminal airspace and by providing connectivity to the existing airway structure.

DATES: Effective date 0901 UTC, April 3, 2014. The Director of the Federal Register approves this incorporation by reference action under 1 CFR part 51, subject to the annual revision of FAA Order 7400.9 and publication of conforming amendments.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

History

On November 15, 2013, the FAA published in the Federal Register a notice of proposed rulemaking (NPRM) to establish nine new RNAV routes in the Atlanta, GA area (78 FR 68777). Interested parties were invited to participate in this rulemaking effort by submitting written comments on the proposal. Four comments were received.

Discussion of Comments

The Aircraft Owners and Pilots Association (AOPA) and a pilot who often flies in the area, both wrote in support of the proposal. Two other commenters, the City of College Park, GA, and the Woodward Academy, expressed concerns about the proximity of proposed route T-319 to the Woodward Academy campus in College Park, GA. The City and the Academy stated concerns about possible environmental and related economic impacts that might result from the establishment of the route. Additionally, the City advised that they had not been informed as to potential changes to the types and frequency of traffic along the path due to the creation of T-319. The commenters also were concerned about the potential impact of helicopter noise from T-319.

Route T-319 is almost congruent with an existing VOR Federal airway (V-97) which passes through the same area near the Woodward Academy campus. Additionally, this area has long been used by air traffic control (ATC) as a corridor to vector aircraft north and south over the Hartsfield-Jackson Atlanta International airport (ATL). We do not anticipate an increase in traffic with the establishment of T-319. Air traffic is already utilizing that airspace. There are no plans to move additional small propeller aircraft, small jets or helicopters over this route. Further, the route is being established for aircraft transiting through the area and is not intended for aircraft or helicopters circling the area. Aircraft using T-319 will be assigned an altitude of 5,000 feet MSL or 6,000 feet MSL as they are today in the corridor. Additionally, with this RNAV route, ATC will be able to move some traffic through the area at higher altitudes (e.g., 12,000 feet MSL and 13,000 feet MSL). This should reduce the potential for noise impacts. The commenters recommended that the FAA consider moving T-319 to the east along a line approximately 0.3 miles east of Harrison Road (the east edge of the City). Regarding the placement of T-319, the route must be located as proposed in the NPRM so that separation can be provided between the transiting traffic and ATL departures that are climbing to 10,000 feet MSL when ATL is on either an east or west operation.

Differences from the NPRM

The description of T-297 in the NPRM contained a one minute error in the longitude coordinate of the RKMRT, GA, waypoint. The NPRM read “long. 85°14′03″ W.” The correct point is “long. 85°15′03″ W.”

The NPRM stated that this action would support the Atlanta Optimization of Airspace and Procedures in a Metroplex (OAPM) Project. That statement resulted in some confusion over the status of the T-route proposal versus the Metroplex project. While these new routes will enhance airspace efficiency in the Atlanta terminal area, the T-routes in this rule have independent utility from the Metroplex project, and environmental evaluations were conducted independently.

The Rule

The FAA is amending Title 14, Code of Federal Regulations (14 CFR) part 71 to establish nine low altitude RNAV routes (T-routes) in the Atlanta, GA, area to provide published routes for aircraft to use to circumnavigate the busy Atlanta terminal area airspace. The new routes are described below.

T-290: T-290 provides a route south of Atlanta from the SCAIL, AL, waypoint (WP), near Tallapoosa County, AL, to the JACET, GA, WP, near Augusta, GA.

T-292: T-292 provides a route to the north of Atlanta from the RKMRT, GA, WP (near Polk County Airport, GA) to the JACET, GA, WP.

T-293: T-293 extends around the west of the Atlanta area from the CHUTT, AL, WP, in Alabama (south of Columbus, GA) to the DAISI, GA, WP (near Pickens County Airport, GA [JZP]). Aligning the route segments between the RTLRY, HONRR and POLLL waypoints keeps T-293 within Atlanta TRACON's airspace and provides vertical and lateral separation from three separate published arrival procedures used by aircraft descending to land at airports within the Metroplex area.

T-294: T-294 provides an alternative RNAV route through the Atlanta area on the southwest side, between the GRANT, GA, WP (near Thomaston, GA) and the HEFIN, AL, WP (near Heflin, AL).

T-296: T-296 provides a route southeast of Atlanta between the JMPPR, GA, WP (near Woodbury, GA) and the TACKL, GA, WP (southwest of Athens, GA).

T-297: T-297 provides an alternative route around the west side of the Atlanta area between the PAIRA, GA, WP (south of Atlanta, near Geneva, GA) and the REELL, GA, WP (northwest of Athens, GA). The route has altitude limitations so that T-297 flights are procedurally separated from all optimized published departure and arrival procedures.

T-319: T-319 provides an RNAV route directly over the Hartsfield-Jackson Atlanta International Airport (ATL) for aircraft transitioning Class B airspace from north-to-south and vice versa.

T-321: T-321 provides a north-south oriented route east of ATL, between the BBOAT, GA, WP (near Eatonton, GA) and the BIGNN, GA, WP (abeam Habersham County, GA). The BBOAT and BIGNN waypoints also connect to T-290 and T-323, respectively, enabling more flexibility in routing options.

T-323: T-323 allows aircraft to transition the Atlanta area between a point approximately 110 NM northeast of ATL from the HIGGI, NC, WP and a point 110 NM southeast of ATL at the CROCS, GA, WP. T-323 intersects the new T-290 and T-321 enabling alternative routing between the Knoxville, TN, area and locations south of the Atlanta area.

These new T-routes provide access through, around and over the Atlanta terminal area that are procedurally deconflicted from arrivals, departures and other airspace areas. This will benefit the efficiency and safety of the NAS by establishing published routes that are more direct and by reducing air traffic controller and pilot workload.

Low altitude RNAV routes are published in paragraph 6011 of FAA Order 7400.9X dated August 7, 2013, and effective September 15, 2013, which is incorporated by reference in 14 CFR 71.1. The RNAV routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to enhance the safe and efficient flow of air traffic in the Atlanta, GA area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013, and effective September 15, 2013, is amended as follows:

Paragraph 6011—United States Area Navigation Routes.

* * * * *

T-290 SCAIL, AL to JACET, GA [New]
SCAIL, AL | WP | (lat. 33°02′01″ N., long. 85°39′32″ W.)
BBAIT, GA | WP | (lat. 33°07′14″ N., long. 84°46′13″ W.)
BBASS, GA | WP | (lat. 33°11′33″ N., long. 83°59′21″ W.)
BBOAT, GA | WP | (lat. 33°16′51″ N., long. 83°28′10″ W.)
BOBBR, GA | WP | (lat. 33°19′57″ N., long. 83°08′19″ W.)
JACET, GA | WP | (lat. 33°29′41″ N., long. 82°06′28″ W.)
T-292 RKMRT, GA to JACET, GA [New]
RKMRT, GA | WP | (lat. 34°03′37″ N., long. 85°15′03″ W.)
POLLL, GA | WP | (lat. 34°08′57″ N., long. 84°46′50″ W.)
CCATT, GA | WP | (lat. 34°16′15″ N., long. 84°09′05″ W.)
REELL, GA | WP | (lat. 34°01′33″ N., long. 83°31′44″ W.)
TRREE, GA | WP | (lat. 33°47′15″ N., long. 82°55′30″ W.)
JACET, GA | WP | (lat. 33°29′41″ N., long. 82°06′28″ W.)
T-293 CHUTT, AL to DAISI, GA [New]
CHUTT, AL | WP | (lat. 32°13′23″ N., long. 85°03′06″ W.)
NFTRY, GA | WP | (lat. 33°02′03″ N., long. 85°09′06″ W.)
RTLRY, GA | WP | (lat. 33°45′18″ N., long. 85°07′48″ W.)
HONRR, GA | WP | (lat. 33°57′35″ N., long. 85°01′28″ W.)
POLLL, GA | WP | (lat. 34°08′57″ N., long. 84°46′50″ W.)
DAISI, GA | WP | (lat. 34°26′08″ N., long. 84°25′51″ W.)
T-294 HEFIN, AL to GRANT, GA [New]
HEFIN, AL | Fix | (lat. 33°35′55″ N., long. 85°25′11″ W.)
BBAIT, GA | WP | (lat. 33°07′14″ N., long. 84°46′13″ W.)
JMPPR, GA | WP | (lat. 32°57′42″ N., long. 84°33′19″ W.)
GRANT, GA | Fix | (lat. 32°49′45″ N., long. 84°22′36″ W.)
T-296 JMPPR, GA to TACKL, GA [New]
JMPPR, GA | WP | (lat. 32°57′42″ N., long. 84°33′19″ W.)
BBASS, GA | WP | (lat. 33°11′33″ N., long. 83°59′21″ W.)
TATRS, GA | WP | (lat. 33°20′37″ N., long. 83°51′37″ W.)
TACKL, GA | WP | (lat. 33°44′25″ N., long. 83°30′31″ W.)
T-297 PAIRA, GA to REELL, GA [New]
PAIRA, GA | WP | (lat. 32°31′48″ N., long. 84°31′42″ W.)
NFTRY, GA | WP | (lat. 33°02′03″ N., long. 85°09′06″ W.)
HEFIN, AL | Fix | (lat. 33°35′55″ N., long. 85°25′11″ W.)
RKMRT, GA | WP | (lat. 34°03′37″ N., long. 85°15′03″ W.)
CHTTE, GA | WP | (lat. 34°23′18″ N., long. 84°52′55″ W.)
DAISI, GA | WP | (lat. 34°26′08″ N., long. 84°25′51″ W.)
AWSON. GA | Fix | (lat. 34°28′49″ N., long. 83°59′03″ W.)
REELL, GA | WP | (lat. 34°01′33″ N., long. 83°31′44″ W.)
T-319 CCLAY, GA to BLEWW, GA [New]
CCLAY, GA | WP | (lat. 33°18′11″ N., long. 84°24′41″ W.)
DUNCS, GA | WP | (lat. 33°27′34″ N., long. 84°25′23″ W.)
SHURT, GA | WP | (lat. 33°32′13″ N., long. 84°25′50″ W.)
KLOWD, GA | WP | (lat. 33°43′59″ N., long. 84°26′05″ W.)
BLEWW, GA | WP | (lat. 33°58′14″ N., long. 84°25′43″ W.)
T-321 BBOAT, GA to BIGNN, GA [New]
BBOAT, GA | WP | (lat. 33°16′51″ N., long. 83°28′10″ W.)
TACKL, GA | WP | (lat. 33°44′25″ N., long. 83°30′31″ W.)
REELL, GA | WP | (lat. 34°01′33″ N., long. 83°31′44″ W.)
BIGNN, GA | WP | (lat. 34°20′34″ N., long. 83°33′07″ W.)
T-323 CROCS, GA to HIGGI, NC [New]
CROCS, GA | WP | (lat. 32°27′18″ N., long. 82°46′29″ W.)
BOBBR, GA | WP | (lat. 33°19′57″ N., long. 83°08′19″ W.)
BIGNN, GA | WP | (lat. 34°20′34″ N., long. 83°33′07″ W.)
ZPPLN, NC | WP | (lat. 34°59′47″ N., long. 83°49′38″ W.)
HIGGI, NC | WP | (lat. 35°26′47″ N., long. 83°46′41″ W.)

Issued in Washington, DC, on January 29, 2014.
Gary A. Norek,
Manager, Airspace Policy and Regulations Group.

[FR Doc. 2014-02327 Filed 2-4-14; 8:45 am]

BILLING CODE 4910-13-P